DEPARTMENT OF AGRICULTURE

Animal and Plant Health Inspection Service

[Docket No. APHIS-2011-0047]

Notice of Availability of Pest Risk Analysis for the Importation of Dragon Fruit From Thailand Into the Continental United States

AGENCY: Animal and Plant Health Inspection Service, USDA.

ACTION: Notice.

SUMMARY: We are advising the public that we have prepared a pest risk analysis that evaluates the risks associated with the importation into the continental United States of dragon fruit from Thailand. Based on this analysis, we believe that the application of one or more designated phytosanitary measures will be sufficient to mitigate the risks of introducing or disseminating plant pests or noxious weeds via the importation of dragon fruit from Thailand. We are making the pest risk analysis available to the public for review and comment.

DATES: We will consider all comments that we receive on or before August 29, 2011.

ADDRESSES: You may submit comments by either of the following methods:

• Federal eRulemaking Portal: Go to http://www.regulations.gov/#!documentDetail;D=APHIS-2011-0047-0001.

• Postal Mail/Commercial Delivery: Send your comment to Docket No. APHIS-2011-0047, Regulatory Analysis and Development, PPD, APHIS, Station 3A-03.8, 4700 River Road Unit 118, Riverdale, MD 20737-1238.

Supporting documents and any comments we receive on this docket may be viewed at http://www.regulations.gov/#!docketDetail;D=APHIS-2011-0047 or in our reading room, which is located in room 1141 of the USDA South Building, 14th Street and Independence Avenue, SW., Washington, DC. Normal reading room hours are 8 a.m. to 4:30 p.m., Monday through Friday, except holidays. To be sure someone is there to help you, please call (202) 690-2817 before coming.

FOR FURTHER INFORMATION CONTACT: Ms. Claudia Ferguson, Regulatory Policy Coordinator, Regulations, Permits, and Manuals, PPQ, APHIS, 4700 River Road Unit 133, Riverdale, MD 20737-1231; (301) 734-0627.

SUPPLEMENTARY INFORMATION:

Background

Under the regulations in “Subpart—Fruits and Vegetables” (7 CFR 319.56-1 through 319.56-50, referred to below as the regulations), the Animal and Plant Health Inspection Service (APHIS) of the U.S. Department of Agriculture prohibits or restricts the importation of fruits and vegetables into the United States from certain parts of the world to prevent plant pests from being introduced into and spread within the United States.

Section 319.56-4 contains a performance-based process for approving the importation of commodities that, based on the findings of a pest risk analysis, can be safely imported subject to one or more of the designated phytosanitary measures listed in paragraph (b) of that section.

APHIS received a request from the Government of Thailand to allow the importation of fresh dragon fruit (multiple genera and species) into the continental United States. Currently, fresh dragon fruit is not authorized for entry from Thailand. We have completed a pest risk analysis for the purpose of evaluating the pest risks associated with the importation of fresh dragon fruit into the continental United States. The analysis consists of a pest list identifying pests of quarantine significance that are present in Thailand and could follow the pathway of importation into the United States and a risk management document identifying phytosanitary measures that could be applied to the commodity to mitigate the pest risk.

We have concluded that fresh dragon fruit can be safely imported into the continental United States from Thailand using one or more of the five designated phytosanitary measures listed in § 319.56-4(b). These measures are:

• The dragon fruit may be imported into the continental United States in commercial consignments only.

• The dragon fruit must be irradiated in accordance with 7 CFR part 305 with a minimum absorbed dose of 400 Gy.

• If the irradiation treatment is applied outside the United States, each consignment of fruit must be jointly inspected by APHIS and the national plant protection organization (NPPO) of Thailand and accompanied by a phytosanitary certificate attesting that the fruit received the required irradiation treatment.

• If the irradiation treatment is applied upon arrival in the United States, each consignment of fruit must be inspected by the NPPO of Thailand prior to departure and accompanied by a phytosanitary certificate.

• The commodity is subject to inspection at the U.S. port of entry.

Therefore, in accordance with § 319.56-4(c), we are announcing the availability of our pest risk analysis for public review and comment. The pest risk analysis may be viewed on the Regulations.gov Web site or in our reading room (see ADDRESSES above for a link to Regulations.gov and information on the location and hours of the reading room). You may request paper copies of the pest risk analysis by calling or writing to the person listed under FOR FURTHER INFORMATION CONTACT. Please refer to the subject of the pest risk analysis you wish to review when requesting copies.

After reviewing any comments we receive, we will announce our decision regarding the import status of fresh dragon fruit from Thailand in a subsequent notice. If the overall conclusions of the analysis and the Administrator's determination of risk remain unchanged following our consideration of the comments, then we will authorize the importation of fresh dragon fruit from Thailand into the continental United States subject to the requirements specified in the risk management documents.

Authority: 7 U.S.C. 450, 7701-7772, and 7781-7786; 21 U.S.C. 136 and 136a; 7 CFR 2.22, 2.80, and 371.3.

Done in Washington, DC, this 24th day of June 2011.
Kevin Shea,
Acting Administrator, Animal and Plant Health Inspection Service.

[FR Doc. 2011-16405 Filed 6-29-11; 8:45 am]

BILLING CODE 3410-34-P